DEPARTMENT OF DEFENSE

Department of the Army

Availability of a Novel Dendrimer Based Detection Technology for Exclusive, Partially Exclusive or Non-Exclusive Licenses

AGENCY: Department of the Army, DoD.

ACTION: Notice of availability.

SUMMARY: The Department of the Army announces the general availability of exclusive, partially exclusive or non-exclusive licenses relative to a noise abatement technology as described in U.S. Patent Application entitled: “Compositions and Methods for Enhancing Bioassay Performance Through Nanomanipulation; Yin, R.; et. al.” This applicationis a continuation-in-part of application Serial No. 09/448,403, filed November 22, 1999, which in turn was a non-provisional continuation of provisional application Serial No. 60/156,293, filed on September 22, 1999. Licenses shall comply with 35 U.S.C. 209 and 37 CFR 404.

FOR FURTHER INFORMATION CONTACT: Michael D. Rausa, U.S. Army Research Laboratory, Office of Research and Technology Applications, ATTN: AMSRL-DP-T/Bldg. 459, Aberdeen Proving Ground, Maryland 21005-5425, Telephone: (410) 278-5028.

SUPPLEMENTARY INFORMATION: None.

Luz D. Ortiz,
Army Federal Register Liaison Officer.

[FR Doc. 02-9643 Filed 4-18-02; 8:45 am]

BILLING CODE 3710-08-M